CORPORATION FOR NATIONAL AND COMMUNITY SERVICE

Agency Information Collection Activities; Submission to the Office of Management and Budget for Review and Approval; Comment Request; National Service Criminal History Check Recordkeeping Requirement

AGENCY: Corporation for National and Community Service.

ACTION: Notice of information collection; request for comment.

SUMMARY: The Corporation for National and Community Service, operating as AmeriCorps, has submitted a public information collection request (ICR) entitled National Service Criminal History Check Recordkeeping Requirement for review and approval in accordance with the Paperwork Reduction Act.

DATES: Written comments must be submitted to the individual and office listed in the ADDRESSES section by August 18, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Elizabeth Appel, at 202-967-5070 or by email to eappel@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

A 60-day Notice requesting public comment was published in the Federal Register on March 14, 2022 at 87 FR 14255. This comment period ended May 13, 2022, and AmeriCorps received 56 comments by the comment deadline identifying a number of issues.

Many comments directly addressed the time burden required by this information collection. Everyone who commented on the agency's estimated time burden stated that the estimated 5 minutes per individual was significantly lower than the time actually required to fulfill a National Service Criminal History Check (NSCHC) for an individual in order to obtain the required records under this information collection. Recommended new estimates ranged from 30 minutes per individual to 4 hours per individual. Several commenters noted that a missing element of the estimate is the travel time it takes to take individuals to get fingerprinted, given that the closest fingerprinting facilities in rural or remote areas may be located up to a four hours' drive away. A few commenters also noted that the burden of completing the NSCHC training course and staying updated on requirements had not been factored into the time estimate. Based on this input, AmeriCorps has adjusted its estimates of time burden to reflect that it takes, on average, an estimated 135 minutes (2 hours and 15 minutes) per covered individual. AmeriCorps has streamlined and clarified requirements on its website at americorps.gov/grantees-sponsors/history-check over the past year, and will continue to review to determine whether any additional clarifications could be made to reduce burden given that respondents are responsible for reading and understanding the requirements for compliance with the law.

Commenters also raised issues related to difficulties with the AmeriCorps-approved vendors. AmeriCorps underwent the required Federal procurement process to select Fieldprint and Truescreen as contractors to serve as the approved vendors. AmeriCorps will forward these comments to the vendors for any appropriate remedial action and will consider the issues presented in soliciting future proposals for approved vendor contracts. Comments also raised issues that are beyond the scope of this information collection; however, AmeriCorps is maintaining a comprehensive record of all these comments and the issues raised in the comments for consideration as it continues implementation of the statutory requirements for NSCHCs.

Finally, the other issues raised in the comments in response to the 60-day notice were already raised and addressed in the rulemaking process that culminated in 2021 in the current regulation, such as who must undergo an NSCHC, what the NSCHC consists of, and when the NSCHC must be completed. See 86 FR 1141 (February 24, 2021).

Title of Collection: National Service Criminal History Check Recordkeeping Requirement.

OMB Control Number: 3045-0150.

Type of Review: Renewal.

Respondents/Affected Public: Businesses and organizations (AmeriCorps grantees and subgrantees).

Total Estimated Number of Annual Responses: 337,071.

Total Estimated Number of Annual Burden Hours: 758,410.

Abstract: Section 189D of the National and Community Service Act of 1990, as amended, requires AmeriCorps grantees and subgrantees to conduct a National Service Criminal History Check on individuals in covered positions. Documenting compliance with the requirement is critical to that responsibility. The Check includes a nationwide check of the National Sex Offender Public website, a check of the State criminal history record repository or agency-designated alternative for the individual's State of residence and State of service, and a fingerprint-based check of the FBI criminal history record database through the State criminal history record repository or agency-approved vendor. One way for grant recipients or subrecipients to obtain and document the required components is through the use of agency-approved vendors, but use of vendors is not required. The currently approved information collection is due to expire on July 31, 2022. This notice announces AmeriCorps' intention to seek renewal of the information collection approval without revisions, but with an adjustment of burden hours.

Dated: July 13, 2022.
Fernando Laguarda,
General Counsel.

[FR Doc. 2022-15309 Filed 7-18-22; 8:45 am]

BILLING CODE 6050-28-P